DEPARTMENT OF HOMELAND SECURITY

Coast Guard

33 CFR Part 117

[Docket No. USCG-2017-0523]

Drawbridge Operation Regulation; Long Creek, Hempstead, NY

AGENCY: Coast Guard, DHS.

ACTION: Notice of deviation from drawbridge regulation.

SUMMARY: The Coast Guard has issued a temporary deviation from the operating schedule that governs the Loop Parkway Bridge across Long Creek, mile 0.7, at Hempstead, New York. This action is necessary in order to facilitate an annual fireworks display. The deviation allows the bridge to remain in the closed position for approximately two and one half hours.

DATES: This deviation is effective from 9:30 p.m. on July 8, 2017 to 11:59 p.m. on July 9, 2017.

ADDRESSES: The docket for this deviation, USCG-2017-0523 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The Town of Hempstead Department of Public Safety submitted and the bridge owner, the New York State Department of Transportation, concurred with a temporary deviation request from the normal operating schedule to facilitate a public fireworks event.

The Loop Parkway Bridge, mile 0.7, across Long Creek, has a vertical clearance of 21 feet at mean high water and 23 feet at mean low water in the closed position. The existing drawbridge operating regulations are listed at 33 CFR 117.799(f).

This temporary deviation will allow the Loop Parkway Bridge to remain closed from 9:30 p.m. through 11:59 p.m. on July 8, 2017 with a rain date of July 9, 2017. The waterway is used primarily by seasonal recreational vessels and occasional tug/barge traffic. Coordination with waterway users has indicated no objections to this short-term closure of the draw.

Vessels that can pass under the bridge without an opening may do so at all times. The bridge will be able to open for emergencies. Additionally, there are alternate routes for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: June 20, 2017.
C.J. Bisignano,
Supervisory Bridge Management Specialist, First Coast Guard District.

[FR Doc. 2017-13246 Filed 6-23-17; 8:45 am]

BILLING CODE 9110-04-P